DEPARTMENT OF HEALTH AND HUMAN SERVICES

Health Resources and Services Administration

DoNation Campaign Collaboration Projects

AGENCY: Health Resources and Services Administration (HRSA), Department of Health and Human Services.

ACTION: Notice.

SUMMARY: HRSA's Health Systems Bureau (HSB), Division of Transplantation (DoT) solicits requests from non-federal public and private sector organizations and entities who wish to collaborate on the DoNation Campaign. DoNation collaboration projects will involve executing a series of activities that elevate the benefits and importance of organ, eye, and tissue donation and increase organ donor registrations among the public with a focus on individuals from diverse racial and ethnic backgrounds. Potential collaborating organizations must have demonstrated interest in and experience with coordinating activities that address key public health issues, be capable of managing the day-to-day operations associated with the proposed activity(ies), and be willing to participate substantively in the execution of the proposed activity(ies), not just providing funding or logistical support.

DATES: A request to participate as a collaborating organization must be received via email or postmarked mail at the addresses listed below by 5 p.m. EST on Tuesday, January 31, 2023.

ADDRESSES: Proposals for DoNation Campaign collaborations may be submitted via email to DoNation@hrsa.gov. Proposals may also be sent to Frank Holloman, Director, DoT; 5600 Fishers Lane; Rockville, MD 20852. Requests will meet the deadline if they are either (1) received on or before the deadline date; or (2) postmarked on or before the deadline date. Private metered postmarks will not be accepted as proof of timely mailing. Hand-delivered requests must be received by 5 p.m. EST on Tuesday, January 31, 2023. Requests that are received after the deadline will be returned to the sender.

FOR FURTHER INFORMATION CONTACT: Lauren Darensbourg, DoT, HSB, HRSA; 5600 Fishers Lane, Rockville, MD 20852; Telephone (301) 443-3737. Email: DoNation@hrsa.gov.

SUPPLEMENTARY INFORMATION:

Background

The Division of Transplantation (DOT), within HRSA's Heath Systems Bureau, is the primary federal entity responsible for oversight of the nation's organ and blood stem cell transplant systems and the implementation of programs and initiatives that increase organ and blood stem cell donations in the United States. DoT's mission is to protect public health and extend and enhance the lives of individuals with end-stage organ failure for whom an organ transplant is the most appropriate therapeutic treatment. DoT, on behalf of the Secretary of Health and Human Services, is authorized under 42 U.S.C. 274f-1(a) to establish a public education program on organ donation and the need for more organ donors. Specifically, the authority provides, “[t]he Secretary shall, directly or through grants or contracts, establish a public education program in cooperation with existing national public awareness campaigns to increase awareness about organ donation and the need to provide for an adequate rate of such donations.”

The DoNation Campaign is an initiative of DoT with the goal of improving awareness about the importance of organ donation and transplantation as well as increasing organ donor registrations from the public, especially among those in racially and ethnically diverse communities. The DoNation Campaign recruits and engages workplaces of all sizes and across all industries in efforts to educate their employees and communities about organ, eye, and tissue donation and to encourage organ donor registration. The DoNation Campaign was built on the foundation of DoT's Workplace Partnership for Life Hospital Campaign, which encouraged thousands of hospitals and workplaces to educate and register more than 630,000 people as organ donors since 2011.

Requirements of the Collaboration

DoT is seeking organizations capable of managing the development and execution of activities (such as campaign amplification and workplace recruitment) and identifying ways to enhance campaign activities and participation. Approved proposals will require a co-sponsorship agreement signed by both participants that outlines the terms and parameters of the collaboration. The co-sponsorship will be in place for a period of 1 year from the date at which it bears all parties' signatures. No funding will be provided by DoT for any organization's involvement in this collaboration other than sharing existing layouts and files of relevant DoNation Campaign materials and the staff time needed to carry out activities in the co-sponsorship agreement.

DoNation Campaign Projects

Proposed DoNation Campaign projects will develop and implement activities that amplify the availability of the DoNation Campaign; recruit workplaces to participate in the campaign; and encourage organ, eye, and tissue donor registration. The collaborating organization shall help promote the DoNation Campaign through outreach activities that may include using social media, exhibiting at conferences or speaking at events, and recognizing campaign partners throughout the campaign and at the conclusion of the campaign year. The collaborating organization shall identify and recommend ways to enhance the delivery and outreach of the DoNation Campaign. Upon signing the above-referenced co-sponsorship agreement, and as long as the activation/activity meets all requirements, DoT will grant collaborating organizations the use of its DoNation-branded materials to promote the project and will highlight the collaboration via its digital and social media platforms, as deemed appropriate. Use of DoNation-branded materials should not imply any federal endorsement of the collaborating organization's general policies, activities, or products.

Eligibility for Collaborating Organizations

To be eligible, a requester shall: (1) have a demonstrated interest in, understanding of, and experience with managing the development and execution of programs, or other activities related to addressing key public health issues; (2) participate substantively in the proposed DoNation Campaign project (not just provide funding or logistical support); (3) demonstrate an organizational commitment and/or focus to increasing the number of registered organ, eye, and tissue donors in the United States; (4) demonstrate a willingness and ability to champion the DoNation Campaign by leveraging existing partnerships, relationships, and networks to increase the number of participating workplaces each campaign year; and (5) agree to sign a co-sponsorship agreement with HRSA which will set forth the details of the DoNation Campaign project activity.

The collaborating organization shall furnish the necessary personnel, materials, services, and facilities to administer the proposed DoNation Campaign project. These duties will be determined and outlined in a co-sponsorship agreement.

Collaborating Organization Proposal

Each collaborating organization's proposal shall contain a description of: (1) the entity or organization; (2) its background in managing the development and execution of programs and/or other activities that address key public health issues, including but not limited to promoting the benefits and importance of organ, eye, and tissue donation and encouraging donor registrations; and (3) its proposed involvement in the DoNation Campaign project.

Evaluation criteria: DoT will select the DoNation Campaign projects using the following evaluation criteria:

(1) Requester's qualifications and capability to fulfill proposed DoNation Campaign project responsibilities;

(2) Requester's creativity in developing and executing the proposed project, including the medium through which participants are recruited and project messages are delivered;

(3) Requester's experience administering programs and/or activities at the national, regional, and/or state level that have successfully addressed key public health issues, including but not limited to increasing organ donor registration and awareness of the benefits and importance of organ, eye, and tissue donation;

(4) Requester's past or current work specific to programs and/or activities that address key public health issues among the public and those in racially and ethnically diverse communities, including but not limited to organ, eye, and tissue donation;

(5) Requester's personnel: name, professional qualifications, and specific expertise of key personnel who would be available to work on the DoNation Campaign project; and

(6) Requester's facilities and infrastructure: availability and description of facilities or other infrastructure necessary to develop and execute the programs, activations, and/or activities, including office space and information technology, and telecommunication resources.

Diana Espinosa,
Deputy Administrator.

[FR Doc. 2023-00063 Filed 1-5-23; 8:45 am]

BILLING CODE 4165-15-P